DEPARTMENT OF ENERGY

Federal Energy Regulatory Commission

[Project No. 2513-091]

Green Mountain Power Corporation; Notice of Revised Procedural Schedule

This notice revises the Federal Energy Regulatory Commission's (Commission) schedule for processing the relicense application for the Essex No. 19 Hydroelectric Project No. 2513, which was filed by Green Mountain Power Corporation (GMP) on February 28, 2023. On March 6, 2023, Commission staff issued a notice of application tendered for filing, which included an initial processing schedule.

On April 21, 2023, Commission staff issued a determination on requested modifications to the project's study plan, pursuant to section 5.15(c)(7) of the Commission's regulations. The determination amended the study plan to require that GMP file a study report for a Computational Fluid Dynamics (CFD) Modeling Study by December 31, 2023. GMP filed the study report on April 8, 2024. Then, on October 16, 2024, GMP filed additional information on downstream salmon passage and stated that it would file any proposed relicensing measures for improving fish passage after consultation with resource agencies. On December 18, 2024, GMP filed letters with the Commission describing the status of ongoing consultation with the U.S. Fish and Wildlife Service (FWS) and the Vermont Agency of Natural Resources (Vermont ANR). GMP stated that it would file quarterly updates on the status of the development of fish passage alternatives until an alternative was selected by GMP and the resource agencies. GMP filed its most recent quarterly update on September 30, 2025, indicating that it is actively consulting with FWS and Vermont ANR to identify a downstream fish passage alternative for its relicensing proposal.

By this notice, Commission staff is updating the procedural schedule. The revised schedule is shown below. Further revisions to the schedule may be made as appropriate.

Milestone | Target date
Issue Notice of Acceptance and Ready for Environmental Analysis | January 2026.
Filing of Motions to Intervene, Protests, Comments, Recommendations, Preliminary Terms and Conditions, and Preliminary Fishway Prescriptions | March 2026.
Filing of Reply Comments | May 2026.

Any questions regarding this notice may be directed to Erin Mocko by telephone at (202) 502-8107 or by email at Erin.Mocko@ferc.gov.

Dated: October 6, 2025.
Debbie-Anne A. Reese,
Secretary.

[FR Doc. 2025-20697 Filed 11-21-25; 8:45 am]

BILLING CODE 6717-01-P